NATIONAL CREDIT UNION ADMINISTRATION

Notice of Change in Time of Meeting

It has been determined by the National Credit Union Administration Board that it will be necessary to change the time of the previously announced open Board meeting (Federal Register, Vol. 68, No. 120, page 37177, June 23, 2003) scheduled for Thursday, June 26, 2003 at 10 a.m. The meeting will now be held at 2 p.m. Earlier announcement of this change was not possible.

FOR FURTHER INFORMATION CONTACT: Becky Baker, Secretary of the Board, Telephone: (703) 518-6304.

Becky Baker,
Secretary of the Board.

[FR Doc. 03-16299 Filed 6-24-03; 11:20 am]

BILLING CODE 7535-01-M